DEPARTMENT OF COMMERCE

International Trade Administration

AGENCY: International Trade Administration, Department of Commerce.

ACTION: Notice.

SUMMARY: The Commerce Department's International Trade Administration (ITA) and its U.S. Commercial Service posts in India will host a U.S. delegation to the India Business Summit to be led by Under Secretary for International Trade Franklin L. Lavin, November 29-30, 2006, followed by spin-off missions in six Indian cities, December 4-5, 2006. Leaders of U.S. business, industry, education, and state and local government are among those encouraged to take part in the Summit, which will provide access to India's high-level business, industry, and government representatives and insights into the country's trade and investment climate. The spin-off missions in Bangalore, Calcutta, Chennai, Hyderabad, Mumbai, and New Delhi are open to qualified U.S. exporters in a range of sectors; they will include market briefings, networking events, and one-on-one business appointments with prospective agents, distributors, partners, and end-users.

Recruitment Update: Applications for the Summit and/or the spin-off missions will be reviewed on a rolling basis. Recruitment will close October 2, 2006, or earlier, if all available spaces are filled prior to that date. More information is available at http://export.gov/Indiamission.

FOR FURTHER INFORMATION CONTACT: Nancy Hesser at the Department of Commerce in Washington, DC. Telephone: (202) 482-4663. Fax: (202) 482-2718.

Dated: August 10, 2006.
Nancy Hesser,
Manager, Commercial Service Trade Missions Program.

[FR Doc. E6-13471 Filed 8-15-06; 8:45 am]

BILLING CODE 3510-DS-P